DEPARTMENT OF COMMERCE

National Oceanic and Atmospheric Administration

50 CFR Part 600

[Docket No. 020424095-2095-01; I.D. 032801B]

RIN 0648-AP25

Fishing Capacity Reduction Program for the Crab Species Covered by the Fishery Management Plan for the Bering Sea/Aleutian Islands King and Tanner Crabs

AGENCY: National Marine Fisheries Service, National Oceanic and Atmospheric Administration, Commerce.

ACTION: Extension of public comment period on proposed rule.

SUMMARY: This document extends for 30 days the public comment period on a proposed rule for establishing a fishing capacity reduction program for the crab species managed under the Bering Sea/Aleutian Islands King and Tanner Crab Fishery Management Plan (FMP), as published on December 12, 2002.

DATES: Comments on the proposed rule will be accepted until February 27, 2003.

ADDRESSES: Mail or fax written comments about this extension or the proposed rule to Michael L. Grable. The mailing address is: Michael L. Grable, Chief, Financial Services Division, National Marine Fisheries Service, 1315 East-West Highway, Silver Spring, MD 20910-3282. The fax number is (301) 713-1306. NMFS will not accept e-mail or internet comments.

If a comment involves any aspect of the proposed rule's collection of information requirements, send the comment both to Michael L. Grable and to the National Oceanic and Atmospheric Administration Desk Officer, Office of Information and Regulatory Affairs, Office of Management and Budget, Washington, D.C. 20503. Anyone may obtain, from Michael L. Grable, the Environmental Assessment, Regulatory Impact Review, and Initial Regulatory Flexibility Analysis for this proposed rule.

Anyone wishing to contact the Restricted Access Management Program (which issues crab species fishing licenses) may do so at this address: Restricted Access Management Program, National Marine Fisheries Service, P.O. Box 21668, Juneau AK 99802-1668. The fax number is (907) 586-7354.

FOR FURTHER INFORMATION CONTACT: Michael L. Grable,(301)713-2390

SUPPLEMENTARY INFORMATION:

Background

On December 12, 2002 (67 FR 76329), NMFS published a proposed rule in the Federal Register that would implement regulations for a program to reduce excess capacity and promote economic efficiency in the crab fishery under the FMP. NMFS would finance the voluntary program's $100 million cost with a 30-year loan to be repaid by post-reduction fishermen. The proposed rule was corrected in the Federal Register on December 30, 2002 (67 FR 79550).

The deadline for comments on the proposed rule was January 27, 2003, and January 29, 2003 on the correction. This extension of the comment period until February 27, 2003 is in response to requests made by the public. Moreover, as the Bering Sea and Aleutian Islands C. opilio fishery was open during part of the original comment period, NMFS notes that an extension of comment period would give these members of the affected public a better chance to comment on the rule.

Authority: 16 U.S.C. 1801 et. seq.

Dated: January 23, 2003.
Rebecca Lent,
Deputy Assistant Administrator for Regulatory Programs, National Marine Fisheries Service.

[FR Doc. 03-1908 Filed 1-27-03; 8:45 am]

BILLING CODE 3510-22-S